ARCHITECTURAL AND TRANSPORTATION BARRIERS COMPLIANCE BOARD

36 CFR Part 1155

[Docket No. ATBCB-2022-0003]

RIN 3014-AA46

Procedures for Issuing Guidance Documents; Rescission; Correction

AGENCY: Architectural and Transportation Barriers Compliance Board.

ACTION: Direct final rule; correction.

SUMMARY: The Architectural and Transportation Barriers Compliance Board (“Access Board,” or “Board”) published a direct final rule in the Federal Register on Feb. 2, 2022, rescinding its regulation that details internal procedures for issuance, public availability, modification, and withdrawal of agency guidance documents. The document contained the incorrect docket number.

DATES: This final rule is effective February 28, 2022, and is applicable beginning February 2, 2022.

FOR FURTHER INFORMATION CONTACT: General Counsel Christopher Kuczynski, (202) 272-0042, generalcounsel@access-board.gov.

SUPPLEMENTARY INFORMATION:

Correction

In the Federal Register on Feb. 2, 2022, 87 FR 5692, on page 5692, in the second column, correct the Docket No. caption to read: “Docket No. ATBCB-2022-0003”.

Christopher Kuczynski,
General Counsel.

[FR Doc. 2022-04087 Filed 2-25-22; 8:45 am]

BILLING CODE 8150-01-P